DEPARTMENT OF THE INTERIOR

Fish and Wildlife Service

[FWS-R9-R-2008-NO181] [93261-1261-0000-5A]

Information Collection Sent to the Office of Management and Budget (OMB) for Approval; Hunting and Fishing Application Forms and Activity Reports for National Wildlife Refuges

AGENCY: Fish and Wildlife Service, Interior.

ACTION: Notice; request for comments.

SUMMARY: We (Fish and Wildlife Service) have sent an Information Collection Request (ICR) to OMB for review and approval. The ICR, which is summarized below, describes the nature of the collection and the estimated burden and cost. We may not conduct or sponsor and a person is not required to respond to a collection of information unless it displays a currently valid OMB control number.

DATES: You must send comments on or before September 8, 2008.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail) or hope_grey@fws.gov (e-mail).

FOR FURTHER INFORMATION CONTACT: To request additional information about this ICR, contact Hope Grey by mail or e-mail (see ADDRESSES) or by telephone at (703) 358-2482.

SUPPLEMENTARY INFORMATION:

OMB Control Number: None. This is a new collection.

Title: Hunting and Fishing Application Forms and Activity Reports for National Wildlife Refuges, 50 CFR 25.41, 25.43, 25.51, 26.32, 26.33, 27.42, 30.11, 31.15, 32.1 to 32.72.

Service Form Number(s): FWS Forms 3-2354, 3-2355, 3-2356, 3-2357,3-2358, 3-2359, 3-2360, 3-2361, 3-2362.

Type of Request: New collection.

Affected Public: Individuals and households.

Respondent's Obligation: Required to obtain or retain a benefit.

Frequency of Collection: On occasion. For applications, usually once per year at beginning of hunting season. For activity reports, once at conclusion of hunting/fishing experience.

Nonhour Cost Burden: We estimate the annual nonhour cost burden to be $60,000 for hunting application fees at some refuges.

Activity | Number of annual respondents | Number of annual responses | Completion time per response | Annual burden hours
FWS Form 3-2354 (Quota Deer Hunt Application) | 175,000 | 175,000 | 30 minutes | 87,500
FWS Form 3-2355 (Waterfowl Lottery Application) | 90,000 | 90,000 | 30 minutes | 45,000
FWS Form 3-2356 (Big Game Hunt Application) | 2,500 | 2,500 | 30 minutes | 1,250
FWS Form 3-2357 (Migratory Bird Hunt Application) | 5,000 | 5,000 | 30 minutes | 2,500
FWS Form 3-2358 (Fishing/Shrimping/Crabbing Application) | 2,500 | 2,500 | 30 minutes | 1,250
FWS Form 3-2359 (Big Game Harvest Report) | 85,000 | 85,000 | 15 minutes | 21,250
FWS Form 3-2360 (Fishing Report) | 400,000 | 400,000 | 15 minutes | 100,000
FWS Form 3-2361 (Migratory Bird Hunt Report | 30,000 | 30,000 | 15 minutes | 7,500
FWS Form 3-2362 (Upland/Small Game/Furbearer Report) | 25,000 | 25,000 | 15 minutes | 6,250
Totals | 815,000 | 815,000 |  | 272,500

Abstract: The National Wildlife Refuge System Administration Act of 1966 (16 U.S.C. 668dd-668ee), as amended (Administration Act), and the Refuge Recreation Act of 1962 (16 U.S.C. 460k-460k-4) (Recreation Act) govern the administration and uses of national wildlife refuges and wetland management districts. The Administration Act consolidated all the different refuge areas into a single Refuge System. It also authorizes us to permit public uses, including hunting and fishing, on lands of the Refuge System when we find that the activity is compatible and appropriate with the purpose for which the refuge was established. The Recreation Act allows the use of refuges for public recreation when the use is not inconsistent or does not interfere with the primary purpose(s) of the refuge.

There are 389 national wildlife refuges where we administer hunting and/or fishing programs. We only collect user information at about 20 percent of these refuges. Information that we plan to collect will help us to:

(1) Administer and monitor hunting and fishing programs on refuges.

(2) Distribute hunting and fishing permits in a fair and equitable manner to eligible participants.

We are proposing nine new application and report forms associated with hunting and fishing on refuges. We may not allow all opportunities on all refuges; therefore, we developed different forms to simplify the process and avoid confusion for applicants. Not all refuges will use each form and some refuges may collect the identical information in a nonform format.

We will use the following application forms when we assign areas, dates, and/or types of hunts via a drawing because of limited resources, high demand, or when a permit is needed to hunt. We will issue application forms for specific periods, usually seasonally or annually.

(1) FWS Form 3-2354 (Quota Deer Hunt Application).

(2) FWS Form 3-2355 (Waterfowl Lottery Application).

(3) FWS Form 3-2356 (Big Game Hunt Application).

(4) FWS Form 3-2357 (Migratory Bird Hunt Application).

(5) FWS Form 3-2358 (Fishing/Shrimping/Crabbing Application)

We plan to collect information on:

(1) Applicant (name, address, phone number) so that we can notify applicants of their selection.

(2) User preferences (dates, areas, method) so that we can distribute users equitably.

(3) Whether or not the applicant is applying for a special opportunity for disabled or youth hunters.

(4) Age of youth hunter(s) so that we can establish eligibility.

We will ask users to report on their success after their experience so that we can evaluate hunting/fishing quality and resource impacts. We will use the following activity reports, which we will distribute during appropriate seasons, as determined by State or Federal regulations.

(1) FWS Form 3-2359 (Big Game Harvest Report).

(2) FWS Form 3-2360 (Fishing Report).

(3) FWS Form 3-2361 (Migratory Bird Hunt Report).

(4) FWS Form 3-2362 (Upland/Small Game/Furbearer Report).

We plan to collect information on:

(1) Names of users so we can differentiate between responses.

(2) City and State of residence so that we can better understand if users are local or traveling.

(3) Dates, time, and number in party so we can identify use trends to allocate staff and resources.

(4) Details of success by species so that we can evaluate quality of experience and resource impacts.

Comments: On April 22, 2008, we published a notice in the Federal Register (72 FR 21640) announcing our intent to request that OMB approve this information collection. We solicited public comment for 60 days, ending on June 23, 2008. We did not receive any comments in response to this notice.

We again invite comments concerning this information collection on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: June 30, 2008
Hope Grey,
Information Collection Clearance Officer, Fish and Wildlife Service.

FR Doc. E8-18339 Filed 8-7-08; 8:45 am

BILLING CODE 4310-55-S